DEPARTMENT OF LABOR

Employment and Training Administration

[TA-W-63,758]

Lear Corporation; Quality Control and Inspection Department; 950 Loma Verde Drive, El Paso, TX; Notice of Revised Determination on Reconsideration

On October 3, 2008, the Department issued an Affirmative Determination Regarding Application for Reconsideration applicable to workers and former workers of Lear Corporation, Quality Control and Inspection Department, located at 950 Loma Verde Drive, El Paso, Texas (subject firm). The Department's Notice was published in the Federal Register on October 10, 2008 (73 FR 60338).

The negative determination was based on the Department's finding that the subject firm does not produce an article within the meaning of Section 222(a)(2) of the Act. Workers inspected wire harness component parts. The determination further stated that because the subject workers are denied eligibility to apply for trade adjustment assistance (TAA), the workers cannot be certified eligible for alternative trade adjustment assistance (ATAA).

In the request for reconsideration, the worker alleges that his work “is directly involved in the manufacturing of the final product” and that “Lear Corporation took our jobs to Mexico.” The worker also alleges that he is in the Product Part Approval Process Department, which is separate from the Quality Control and Inspection Department.

During the reconsideration investigation, the Department clarified with a subject human resource official that the worker group engaged in the Product Part Approval Process are part of the Quality Control and Inspection Department. Therefore, the Department determines that the initial identification of the subject worker group are workers of Lear Corporation, Quality Control and Inspection Department, located at 950 Loma Verde Drive, El Paso, Texas is correct.

A careful review of previously-submitted information during the reconsideration investigation revealed that a significant number or proportion of workers in the appropriate subdivision of the workers' firm have become totally or partially separated.

During the reconsideration investigation, the Department confirmed that the workers were engaged in the inspection of wire harness component parts and was also informed that the workers were engaged in the testing of those articles. The Department considers testing to be a production activity. As such, the Department determines that the subject workers are engaged in the production of wire harness component parts.

During the reconsideration investigation, the Department confirmed that the subject firm shifted wire harness component part production to an affiliated facility located in Mexico.

Based on the above, the Department determines that the group eligibility requirements in Section 222(a)(2)(B) of the Trade Act of 1974, as amended, have been met.

In accordance with Section 246 the Trade Act of 1974 (26 U.S.C. 2813), as amended, the Department herein presents the results of its investigation regarding certification of eligibility to apply for ATAA.

The Department has determined in this case that the group eligibility requirements of Section 246 have been met.

A significant number of workers at the firm are age 50 or over and possess skills that are not easily transferable. Competitive conditions within the industry are adverse.

Conclusion

After careful review of the facts obtained during the reconsideration investigation, I conclude that there was a shift in production from the workers' firm or subdivision to Mexico of articles that are like or directly competitive with those produced by the subject firm or subdivision.

In accordance with the provisions of the Act, I make the following certification:

“All workers of Lear Corporation, Quality Control and Inspection Department, 950 Loma Verde Drive, El Paso, Texas, who became totally or partially separated from employment on or after July 25, 2007 through two years from the date of this certification, are eligible to apply for adjustment assistance under Section 223 of the Trade Act of 1974, and are eligible to apply for alternative trade adjustment assistance under Section 246 of the Trade Act of 1974.”

Signed at Washington, DC, this 22nd day of October 2008.
Elliott S. Kushner,
Certifying Officer, Division of Trade Adjustment Assistance.

[FR Doc. E8-26050 Filed 10-31-08; 8:45 am]

BILLING CODE 4510-FN-P